DEPARTMENT OF TRANSPORTATION

Federal Aviation Administration

14 CFR Part 73

[Docket No. FAA-2003-16438; Airspace Docket No. 03-ASW-02]

RIN 2120-AA66

Modification of Restricted Areas 3801A, 3801B, and 3801C, Camp Claiborne, LA

AGENCY: Federal Aviation Administration (FAA), DOT.

ACTION: Final rule.

SUMMARY: This action revises Restricted Area's 3801A (R-3801A), 3801B (R-3801B), and 3801C (R-3801C), Camp Claiborne, LA. This action responds to a request from the United States Air Force (USAF) to eliminate the area currently designated as R-3801A; expand the vertical limits of the areas currently designated as R-3801B and R-3801C; and reconfigure R-3801B and R-3801C into a new R-3801A, R-3801B, and R-3801C. Additionally, this action changes the controlling agency for R-3801A, B, and C from the FAA, Houston Air Route Traffic Control Center (ARTCC) to the U.S. Army, Fort Polk Approach Control. The FAA is taking this action to assist the USAF in fulfilling their training requirements for high altitude release bombing.

DATES: Effective Date: 0901 UTC, June 10, 2004.

FOR FURTHER INFORMATION CONTACT: Steve Rohring, Airspace and Rules, Office of System Operations and Safety, ATO-R, Federal Aviation Administration, 800 Independence Avenue, SW., Washington, DC 20591; telephone: (202) 267-8783.

SUPPLEMENTARY INFORMATION:

Background

On January 6, 2004, the FAA proposed to revise R-3801A, R-3801B, and R-3801C, Camp Claiborne, LA, and change the controlling agency to assist the USAF in meeting new USAF training requirements for high altitude release bombing (69 FR 552). Interested parties were invited to participate in this rulemaking proceeding by submitting written comments on this proposal to the FAA. In response to the proposal, the FAA received two comments. The comments and our responses are discussed below.

In response to the proposal, the Aircraft Owners and Pilots Association (AOPA) supports the elimination of the current R-3801A, but expressed concern that raising the ceiling of R-3801B and R-3801C would reduce the availability of Federal Airway 212 (V-212) for use by non-participating aircraft. We acknowledge AOPA's concern; however, we believe that raising the ceiling of R-3801B and R-3801C will have minimal impact on aircraft operations because R-3801C will only be activated when the Warrior 1 High and Low MOAs are active. Currently, we route non-participating aircraft around the Warrior 1 High and Low MOAs when they are active. V-212 also passes through the Warrior 1 High and Low MOAs, which are adjacent to and much larger than R-3801B and R-3801C. Any additional vectors around the new R-3801B and R-3801C should have a minimal impact.

Another commenter expressed concern regarding changing the controlling agency to the U.S. Army, Fort Polk Approach Control because the altitudes of the revised R-3801B and R-3801C will extend above the current ceiling (10,000 feet MSL) of the delegated Fort Polk Approach Control area. We agree with this commenter that some of the altitudes in question are above the approach control delegated airspace. However, coincidental with this action there will be new agreements between Houston ARTCC and Fort Polk Approach Control, delegating the control of the altitudes/airspace contained in the new R-3801B and R-3801C to the Fort Polk Approach Control when the restricted areas are active.

The Rule

As a result of new USAF training requirements, the FAA is amending Title 14 Code of Federal Regulations (14 CFR) part 73 (part 73) by revising R-3801A, R-3801B, and R-3801C at Camp Claiborne, LA. This amendment responds to a USAF request that the FAA take action to eliminate the area currently designated as R-3801A, which is to become the new Claiborne Military Operations Area by a separate but concurrent, non-rulemaking action. This amendment also responds to a USAF request to expand the vertical limits of the areas currently designated as R-3801B and R-3801C from 14,000 feet MSL to FL 230 and reconfigure R-3801B and R-3801C into a new R-3801A, R-3801B, and R-3801C. The overall lateral boundaries of the new R-3801A, R-3801B, and R-3801C are the same as the overall boundaries of the current R-3801B and R-3801C. The altitude structure for the revised airspace areas are from the surface to 10,000 feet MSL to FL180 for R-3801B; and FL180 to FL230 for R-3801C. The additional airspace is required to fulfill new USAF training requirements. Specifically, the new training requirements call for practicing the release of bombs from higher altitudes than are currently available within the existing airspace areas. Additionally, the USAF has requested that the FAA take action to change the controlling agency of R-3801A, R-3801B, and R-3801C from the FAA, Houston ARTCC to the U.S. Army, Fort Polk Approach Control.

Section 73.38 of part 73 of the Federal Aviation Regulations was republished in FAA Order 7400.8L dated October 7, 2003.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The USAF analyzed the potential environmental impacts of the proposed action in an Environmental Assessment (EA) dated December 2000. Based on the EA, the Air Force concludes that the proposed action will not produce significant impacts, either by itself or through cumulative effects of past, present, or reasonably foreseeable actions. Further, the Air Force determined that the proposed action does not require preparation of an Environmental Impact Statement (EIS). The Air Force issued a Finding of No Significant Impact (FONSI) dated May 9, 2001.

The FAA has conducted an independent review of the Air Force's EA in accordance with FAA Order 1050.1D and the FAA/DOD Memorandum of Understanding of 1998 regarding Special Use Airspace Actions. After careful review and thorough consideration of the proposal, the FAA has determined that the Federal action is consistent with existing national environmental policies and objectives as set forth in Section 101(a) of the National Environmental Policies Act of 1969 (NEPA) and that it will not significantly effect the quality of the human environment.

List of Subjects in 14 CFR Part 73

Airspace, Navigation (air), Prohibited Areas, and Restricted Areas.

The Adoption of the Amendment

In consideration of the foregoing, the Federal Aviation Administration will amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.38 (Amended)

2. § 73.38 is amended as follows:

* * * * *

R-3801A Camp Claiborne, LA (Amended)

By removing the current boundaries, designated altitudes, and controlling agency, and substituting the following:

Boundaries. Beginning at lat. 31°11′46″ N., long. 92°30′16″ W.; to lat. 31°05′16″ N., long. 92°34′51″ W.; to lat. 31°13′56″ N., long. 92°49′46″ W.; to lat. 31°18′01″ N., long. 92°46′31″ W.; to lat. 31°15′16″ N., long. 92°41′46″ W.; to lat. 31°17′11″ N., long. 92°40′11″ W.; to the point of beginning.

Designated altitudes. Surface to, but not including, 10,000 feet MSL.

Controlling agency. U.S. Army, Fort Polk Approach Control.

* * * * *

R-3801B Camp Claiborne, LA (Amended)

By removing the current boundaries, designated altitudes, and controlling agency and substituting the following:

Boundaries. Beginning at lat. 31°11′46″ N., long. 92°30′16″ W.; to lat. 31°05′16″ N., long. 92°34′51″ W.; to lat. 31°13′56″ N., long. 92°49′46″ W.; to lat. 31°18′01″ N., long. 92°46′31″ W.; to lat. 31°15′16″ N., long. 92°41′46″ W.; to lat. 31°17′11″ N., long. 92°40′11″ W.; to the point of beginning.

Designated altitudes. 10,000 feet MSL to, but not including, FL 180.

Controlling agency. U.S. Army, Fort Polk Approach Control.

* * * * *

R-3801C Camp Claiborne, LA (Amended)

By removing the current boundaries, designated altitudes, and controlling agency and substituting the following:

Boundaries. Beginning at lat. 31°11′46″ N., long. 92°30′16″ W.; to lat. 31°05′16″ N., long. 92°34′51″ W.; to lat. 31°13′56″ N., long. 92°49′46″ W.; to lat. 31°18′01″ N., long. 92°46′31″ W.; to lat. 31°15′16″ N., long. 92°41′46″ W.; to lat. 31°17′11″ N., long. 92°40′11″ W.; to the point of beginning.

Designated altitudes. FL 180 to FL 230.

Controlling agency. U.S. Army, Fort Polk Approach Control.

* * * * *

Issued in Washington, DC, on April 14, 2004.
Reginald C. Matthews,
Manager, Airspace and Rules.

[FR Doc. 04-8922 Filed 4-19-04; 8:45 am]

BILLING CODE 4910-13-P